FEDERAL MARITIME COMMISSION

Meetings; Sunshine Act

TIME AND DATE: November 19, 2009—10 a.m.

PLACE: 800 North Capitol Street, NW., First Floor Hearing Room, Washington, DC.

STATUS: A portion of the meeting will be in Open Session and the remainder of the meeting will be in Closed Session.

MATTERS TO BE CONSIDERED:

Open Session

1. Docket No. 09-02: Notice of Proposed Rulemaking—Repeal of Marine Terminal Agreement Exemption.

2. Discussion of Notice of Inquiry Concerning Ocean Transportation Intermediary Agents.

3. FY 2010 Budget Status Update.

Closed Session

1. Section 15 Order on Competition, Rates and Services in the U.S.—Australia/New Zealand Northbound and Southbound Trades.

2. Passenger Vessel Operator Regulatory Initiatives.

3. Docket No. 07-02: Anderson International Transport and Owen Anderson Possible Violations of Sections 8(a) and 10 of the Shipping Act of 1984—Petition to Reopen Proceeding and Remand Proceeding to Administrative Law Judge.

CONTACT PERSON FOR MORE INFORMATION: Karen V. Gregory, Secretary, (202) 523-5725.

Karen V. Gregory,
Secretary.

[FR Doc. E9-27602 Filed 11-12-09; 4:15 pm]

BILLING CODE 6730-01-P